DEPARTMENT OF ENERGY

Federal Energy Regulatory Commission

[Docket No. AD 02-5-000, et al.]

Notice of Hydro Licensing Status Workshop

November 8, 2001.

Hydro Licensing Status Workshop | Docket No. AD02-5-000
Arizona Public Service Company | Project No. 2069-003.
Calaveras County Water District | Project Nos. 2019-017 and 2699-001.
Cascade River Hydro | Project No. 10100-002.
Central Maine Power Company | Project No. 2283-005.
Central Vermont Public Service Corporation | Project Nos. 2205-006, 11475-000 and 11478-000.
Citizens Utilities Company | Project No. 2306-008.
City of Escondido, California | Project No. 176-018.
City of Harrisburg, Pennsylvania | Project No. 10418-000.
City of St. Louis, Michigan | Project No. 11428-000.
Commonwealth Power Company | Project Nos. 11120-002, 11300-000 and 11516-000.
Erie Boulevard Hydropower, L.P | Project Nos. 2318-002, 2320-005, 2330-007, 2474-004, 2482-014, 2539-003, 2554-003, 2616-004, 10461-002 and 10462-002.
Finch, Pruyn & Company, Inc | Project No. 2385-002.
FPL Energy Maine, LLC | Project No. 2612-005.
Idaho Power Company | Project Nos. 1975-014, 2061-004 and 2777-007.
Nooksack River Hydro, Inc. | Project No. 11495-000.
Northern States Power Company | Project No. 1982-017.
Pacific Gas and Electric Company | Project Nos. 1354-005 and 2687-014.
PacifiCorp | Project Nos. 1927-008 and 2342-005.
Puget Sound Energy, Inc. | Project No. 2493-006.
Ridgewood Maine Hydro Partners, L.P | Project Nos. 11472-000 and 11566-003.
Rochester Gas and Electric Corporation | Project No. 2596-002.
Skagit River Hydro | Project No. 10311-007.
Skykomish River Hydro, Inc | Project No. 10942-001.
Southern California Edison Company | Project Nos. 1932-004, 1933-010 and 1934-010.
Upper Peninsula Power Company | Project Nos. 1864-005 and 10855-002.
Warm Creek Hydro, Inc | Project No. 10865-001.
Washington Hydro Development Company | Project No. 10416-003.
Wisconsin Power & Light Company | Project No. 11162-002.
Wisconsin River Power Company | Project No. 1984-056.

A two-day, Commissioner-led workshop will be held on December 10 and 11, 2001, beginning at 10:00 a.m., in the Commission Meeting Room at the Federal Energy Regulatory Commission, 888 First Street, NE., Washington, DC. The workshop will focus on the above listed 51 pending license applications filed at the Commission. The workshop is open to the public and all interested persons are invited to attend and participate.

The goals of the workshop are to: (1) Review and discuss the pending license applications; (2) identify unresolved issues; (3) determine next steps; (4) agree on who will take the next step; and (5) focus on solutions. The workshop will concentrate on identifying the unresolved issues associated with each project, and determining the best course of action to resolve or remove obstacles to final action on each pending license application.

A transcript of the discussions will be placed in the public record for Docket No. AD02-5-000 and in the record for each of the pending license applications.

Filing Requirements for Paper and Electronic Filings

Comments, papers, or other documents related to this proceeding may be filed in paper format or electronically. Those filing electronically do not need to make a paper filing.

For paper filings, the original and 8 copies of the comments should be submitted to the Office of the Secretary, Federal Energy Regulatory Commission, 888 First Street, NE., Washington, DC 20426. Paper filings should, at the top of the first page, refer to Docket No. AD02-5-000 and reference the specific project name(s) and project number(s) that the comments concern. The deadline to file comments is January 11, 2002.

Documents filed electronically via the Internet must be prepared in WordPerfect, MS Word, Portable Document Format, or ASCII format. To file the document, access the Commission's Website at www.ferc.gov, click on “e-Filing” and then follow the instructions for each screen. First-time users will have to establish a user name and password. The Commission will send an automatic acknowledgment to the sender's E-mail address upon receipt of comments. User assistance for electronic filing is available at 202-208-0258 or by e-mail to efiling@ferc.fed.us. Comments should not be submitted to the e-mail address.

All comments will be placed in the Commission's public files and will be available for inspection in the Commission's Public Reference Room at 888 First Street, N.E., Washington D.C. 20426, during regular business hours. Additionally, all comments may be viewed, printed, or downloaded remotely via the Internet through FERC's Homepage using the RIMS link. User assistance for RIMS is available at 202-208-2222, or by e-mail to rimsmaster@ferc.fed.us.

Opportunities for Listening, Participating, and Viewing the Workshop Offsite and Obtaining a Transcript

The workshop will be transcribed. Those interested in obtaining transcripts should contact Ace Federal Reporters at 202-347-3700.

The Capitol Connection will broadcast the workshop live via the Internet and by telephone. To find out more about The Capitol Connection's Internet and telephone bridge, contact David Reininger at 703-993-3100 or go to www.capitolconnection.gmu.edu.

Live and archived audio of the workshop will also available for a fee via National Narrowcast Network. Live audio is available by telephone at 202-966-2211 and by subscription on the Internet at www.hearings.com. The Internet audio will be archived and available for listening after the event is completed. Billing is based on listening time.

Anyone interested in purchasing videotapes of the workshop should call VISCOM at 703-715-7999.

Anyone wishing to participate via teleconference should call or E-mail Tom Dean at 202-219-2778 or thomas.dean@ferc.fed.us to receive the toll free telephone number to join the teleconference.

Anyone interested in participating in the workshop via video teleconference from one of the Commission's regional offices should call or E-mail the following staff to make arrangements. Sitting capacity is limited.

Regional office | Staff contact | Telephone No. | E-mail address
Atlanta | Charles Wagner | 770-452-3765 | charles.wagner@ferc.fed.us
Chicago | Dave Simon | 312-353-6701 | david.smon@ferc.fed.us
New York | Chuck Goggins | 212-273-5910 | charles.goggins@ferc.fed.us
Portland | Pat Regan | 503-944-6741 | patrick.regan@ferc.fed.us
San Francisco | John Wiegel | 415-369-3336 | john.wiegel@ferc.us

By December 3, 2001, an agenda for the workshop and information about the pending license applications will be posted on the Commission's web site under Hydro Licensing Status Workshop. Anyone without access to information on the Commission's web site, or who have questions should contact Tom Dean at 202-219-2778, thomas.dean@ferc.fed.us or Alan Mitchnick at 202-219-2826, alan.mitchnick@ferc.fed.us.

David P. Boergers,
Secretary.

[FR Doc. 01-28588 Filed 11-14-01; 8:45 am]

BILLING CODE 6717-01-P